DEPARTMENT OF HOMELAND SECURITY

Coast Guard

33 CFR Part 117

[Docket No. USCG-2016-1038]

Drawbridge Operation Regulation; Harlem River, New York, NY

AGENCY: Coast Guard, DHS.

ACTION: Notice of deviation from drawbridge regulation.

SUMMARY: The Coast Guard has issued a temporary deviation from the operating schedule that governs the 125 Street (Triborough) Bridge across the Harlem River, mile 1.3, at New York, New York. This deviation is necessary to allow the bridge owner to facilitate rehabilitation of the mechanical and electrical components of the bridge. This deviation allows the bridge to remain in the closed position for the duration of the rehabilitation project.

DATES: This deviation is effective from January 17, 2017 through May 15, 2017.

ADDRESSES: The docket for this deviation, [USCG-2016-1038] is available at http://www.regulations.gov. Type the docket number in the “SEARCH” box and click “SEARCH”. Click on Open Docket Folder on the line associated with this deviation.

FOR FURTHER INFORMATION CONTACT: If you have questions on this temporary deviation, call or email Joe M. Arca, Project Officer, First Coast Guard District, telephone (212) 514-4336, email joe.m.arca@uscg.mil.

SUPPLEMENTARY INFORMATION: The 125 Street (Triborough) Bridge, mile 1.3, across the Harlem River, has a vertical clearance in the closed position of 54 feet at mean high water and 59 feet at mean low water. The existing bridge operating regulations are found at 33 CFR 117.789(b)(1).

The waterway is transited by commercial tugs, barges and recreational vessels. There have been no requests for bridge openings in the last two years.

The bridge owner, Triborough Bridge and Tunnel Authority (TBTA), requested a temporary deviation from the normal operating schedule to facilitate rehabilitation of the mechanical and electrical components of the bridge.

Under this temporary deviation, the 125 Street Bridge may remain in the closed position from January 17, 2017 through May 15, 2017.

Vessels able to pass through the bridge in the closed position may do so at any time. The bridge will not be able to open for emergencies and there is an alternate route for vessels to pass.

The Coast Guard will inform the users of the waterways through our Local and Broadcast Notices to Mariners of the change in operating schedule for the bridge so that vessel operations can arrange their transits to minimize any impact caused by the temporary deviation. The Coast Guard notified known companies of the commercial vessels, NYPD, and FDNY in the area and they have no objections to the temporary deviation.

In accordance with 33 CFR 117.35(e), the drawbridge must return to its regular operating schedule immediately at the end of the effective period of this temporary deviation. This deviation from the operating regulations is authorized under 33 CFR 117.35.

Dated: December 15, 2016.
C.J. Bisignano,
Supervisory Bridge Management Specialist, First Coast Guard District.

[FR Doc. 2016-30858 Filed 12-21-16; 8:45 am]

BILLING CODE 9110-04-P